DEPARTMENT OF JUSTICE

[OMB Number 1121-0309]

Agency Information Collection Activities; Proposed eCollection eComments Requested; International Terrorism Victim Compensation Program Application

AGENCY: Office of Justice Programs, Department of Justice.

ACTION: 30-day notice.

SUMMARY: The Department of Justice (DOJ), Office of Justice Programs (OJP) will be submitting the following information collection request to the Office of Management and Budget (OMB) for review and approval in accordance with the Paperwork Reduction Act of 1995. This proposed information collection was previously published in the Federal Register Volume 79, Number 126, page 37353 on July 1, 2014, allowing for a 60 day comment period.

DATES: The purpose of this notice is to allow for an additional 30 days for public comment until October 15, 2014.

FOR FURTHER INFORMATION CONTACT: If you have comments, especially on the estimated public burden or associated response time, suggestions, or need a copy of the proposed information collection instrument with instructions or additional information, please contact Chandria Slaughter, Program Manager, Office of Victims of Crime, Office of Justice Programs, 810 7th Street NW., Washington, DC 20531. Written comments and/or suggestions can also be directed to the Office of Management and Budget, Officer of Information and Regulatory Affairs, Attention Department of Justice Desk Officer, Washington, DC 20503 or send to OIRA_submission@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection 1117-0309

(1) Type of Information Collection: Reinstatement of a previously approved collection for which approval has expired.

(2) Title of the Form/Collection: International Terrorism Victim Expense Reimbursement Program Application.

(3) Agency form number, if any, and the applicable component of the Department sponsoring the collection:

Form number: None.

Component: Office of Victims of Crime, Office of Justice Programs.

(4) Affected public who will be asked or required to respond, as well as a brief abstract:

Primary: Individuals.

Other: none.

Abstract: The application is necessary for victims/claimants to request reimbursement of funds. Collection of information is necessary to assist OVC staff to objectively, fairly, and equitably determine distribution of reimbursement of funds and account for allocation of funds. Respondents will include U.S. government employees and U.S. Nationals who become victims of international terrorism that occurs outside of the U.S.

(5) An estimate of the total number of respondents and the amount of time estimated for an average respondent to respond: It is estimated that 100 respondents will complete the certification in approximately 45 minutes.

(6) An estimate of the total public burden (in hours) associated with the collection:

The estimated total public burden associated with this information collection is 75 hours.

If additional information is required contact: Jerri Murray, Department Clearance Officer, United States Department of Justice, Justice Management Division, Policy and Planning Staff, Two Constitution Square, 145 N Street NE., Room 3E.405B, Washington, DC 20530.

Dated: September 10, 2014.
Jerri Murray,
Department Clearance Officer for PRA, U.S. Department of Justice.

[FR Doc. 2014-21907 Filed 9-12-14; 8:45 am]

BILLING CODE 4410-18-P